DEPARTMENT OF HOMELAND SECURITY

Federal Emergency Management Agency

44 CFR Part 67

[Docket No. FEMA-B-7773]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before July 16, 2008.

ADDRESSES: The corresponding preliminary Flood Insurance Rate Map (FIRM) for the proposed BFEs for each community are available for inspection at the community's map repository. The respective addresses are listed in the table below.

You may submit comments, identified by Docket No. FEMA-B-7773, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground: Existing | * Elevation in feet (NGVD) + Elevation in feet (NAVD) # Depth in feet above ground: Modified
City of Brookport, Illinois
Illinois | City of Brookport | Ohio River | Approximately 2,460 feet upstream of U.S. Highway 45 | None | *339
|  |  | Approximately 3,680 feet downstream of U.S. Highway 45 | None | *339
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Brookport
Maps are available for inspection at City Hall, 209 Ohio Street, City of Brookport, IL 62910.

Flooding source(s) | Location of referenced elevation** | * Elevation in feet (NGVD) + Elevation in feet (NAVD) # Depth in feet above ground: Effective | * Elevation in feet (NGVD) + Elevation in feet (NAVD) # Depth in feet above ground: Modified | Communities affected
Bay County, Florida, and Incorporated Areas
Beefwood Branch | At the confluence with Bayou George | None | +24 | City of Panama City, Unincorporated Areas of Bay County.
| Approximately 19,900 feet upstream of the confluence with Bayou George | None | +62
Big Branch | At the confluence with Bayou George | None | +27 | City of Panama City, Unincorporated Areas of Bay County.
| Approximately 24,800 feet upstream of the confluence with Bayou George | None | +60
Dry Branch | Approximately 615 feet upstream of the confluence with Bayou George | None | +10 | Town of Cedar Grove, Unincorporated Areas of Bay County.
| Approximately 800 feet downstream of Highway 231 | None | +11
Hammock Branch | At the confluence with Bayou George | None | +23 | City of Panama City, Unincorporated Areas of Bay County.
| Approximately 25,000 feet upstream of the confluence with Bayou George | None | +50
Island Branch | At the confluence with Bayou George | None | +30 | City of Panama City, Unincorporated Areas of Bay County.
| Approximately 16,900 feet upstream of the confluence with Bayou George | None | +59
Unnamed Tributary 1 to Bayou George | Approximately 650 feet upstream of the confluence with Bayou George | None | +16 | City of Panama City, Unincorporated Areas of Bay County.
| Approximately 1,400 feet upstream of Nadine Road | None | +50
Unnamed Tributary 10 to Bayou George | At the confluence with Bayou George | None | +37 | City of Panama City, Unincorporated Areas of Bay County.
| Approximately 3,900 feet upstream of the confluence with Bayou George | None | +50
Unnamed Tributary 11 to Bayou George | At the confluence with Bayou George | None | +57 | Unincorporated Areas of Bay County.
| Approximately 8,600 feet upstream of the confluence with Bayou George | None | +64
Unnamed Tributary 2 to Bayou George | Approximately 420 feet upstream of the confluence with Bayou George | None | +25 | City of Panama City, Unincorporated Areas of Bay County.
| Approximately 2,170 feet upstream of John Pitts Road | None | +47
Unnamed Tributary 3 to Bayou George | Approximately 400 feet upstream of the confluence with Bayou George | None | +23 | City of Panama City, Unincorporated Areas of Bay County.
| Approximately 5,500 feet upstream of John Pitts Road | None | +56
Unnamed Tributary 4 to Bayou George | Approximately 315 feet upstream of the confluence with Bayou George | None | +31 | Town of Cedar Grove, City of Panama City, Unincorporated Areas of Bay County.
| Approximately 7,780 feet upstream of John Pitts Road | None | +56
Unnamed Tributary 5 to Bayou George | Approximately 560 feet upstream of the confluence with Bayou George | None | +25 | Town of Cedar Grove, Unincorporated Areas of Bay County.
| Approximately 1,200 feet upstream of Bayou George Drive | None | +43
Unnamed Tributary 6 to Bayou George | Approximately 125 feet upstream of the confluence with Bayou George | None | +38 | Unincorporated Areas of Bay County.
| Approximately 1,400 feet upstream of the confluence with Bayou George | None | +38
Unnamed Tributary 7 to Bayou George | At John Pitts Road | None | +19 | City of Panama City, Unincorporated Areas of Bay County.
| Approximately 7,500 feet upstream of Old Majette Tower Road | None | +54
Unnamed Tributary 8 to Bayou George | At the confluence with Bayou George | None | +23 | City of Panama City, Unincorporated Areas of Bay County.
| Approximately 6,700 feet upstream of the confluence with Bayou George | None | +46
Unnamed Tributary 9 to Bayou George | At the confluence with Bayou George | None | +24 | City of Panama City.
| Approximately 1,800 feet upstream of the confluence with Bayou George | None | +35
Water Branch | At the confluence with Bayou George | None | +47 | Unincorporated Areas of Bay County.
| Approximately 22,000 feet upstream of the confluence with Bayou George | None | +60
White Bucky Branch | Approximately 900 feet upstream of the confluence with Bayou George | None | +26 | City of Panama City, Unincorporated Areas of Bay County.
| Approximately 9,000 feet upstream of the confluence with Bayou George | None | +54
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Panama City
Maps are available for inspection at Panama City Hall, Engineering Department, 9 Harrison Avenue, Panama City, FL.
Town of Cedar Grove
Maps are available for inspection at Cedar Grove Town Hall, 2728 East 14th Street, Cedar Grove, FL.
Unincorporated Areas of Bay County
Maps are available for inspection at Bay County Planning and Zoning Department, 707 Jenks Avenue, Suite B, Panama City, FL.
Washington County, Idaho, and Incorporated Areas
Monroe Creek | Approximately 350 feet downstream of Union Pacific Railroad | None | +2108 | City of Weiser.
| Approximately 50 feet downstream of Park Street | None | +2125
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Weiser
Maps are available for inspection at 55 West Idaho Street, Wieser, ID 83672.
Vermilion Parish, Louisiana, and Incorporated Areas
Gulf of Mexico | Confluence of Gulf of Mexico and Vermilion Bay | +14 | +15 | Unincorporated Areas of Vermilion Parish.
| Entire coastline east of intersection with Rollover Bayou | +15 | +17
Vermilion Bay | Divergence with Gulf of Mexico | +15 | +14 | Unincorporated Areas of Vermilion Parish.
| Confluence with Gulf of Mexico | +14 | +15
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Vermilion Parish
Maps are available for inspection at 100 N. State St., Suite 200, Abberville, LA 70510.
Renville County, Minnesota, and Incorporated Areas
Minnesota River | Approximately 4,850 feet downstream of the Nicollet County Boundary | +818 | +819 | City of Franklin, City of Morton, Unincorporated Areas of Renville County.
| Approximately 4,600 feet upstream of the Chippewa County Boundary | +882 | +883
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Franklin
Maps are available for inspection at City Hall, 320 Second Avenue East, Franklin, MN 55333.
City of Morton
Maps are available for inspection at City Hall, 221 West 2nd Street, Morton, MN 56270.
Unincorporated Areas of Renville County
Maps are available for inspection at Renville County Office Building, 105 South 5th Street, Room 311, Olivia, MN 56277.
Lee County, Mississippi, and Incorporated Areas
Campbelltown Creek | Approximately 375 feet upstream of State Highway 145 | None | +340 | City of Baldwyn, Unincorporated Areas of Lee County.
| Approximately 4,802 feet upstream of County Road 2790 | None | +359
Chiwapa Creek | Approximately 3,480 feet upstream of the confluence with Chiwapa Creek Tributary 15 | None | +269 | Unincorporated Areas of Lee County.
| Approximately 3,180 feet upstream of the confluence with Chiwapa Creek Tributary 16 | None | +274
Coonewah Creek | At Interstate 45 | None | +242 | Unincorporated Areas of Lee County, Town of Shannon.
| Approximately 6,220 feet upstream of State Highway 145 | None | +252
Coonewah Creek Tributary 3 | Approximately 1,210 feet downstream of County Road 484 | None | +254 | Unincorporated Areas of Lee County.
| Approximately 620 feet upstream of County Road 520 | None | +266
Euclatubba Creek | At the confluence of Mud Creek | None | +280 | Unincorporated Areas of Lee County, Town of Saltillo.
| Approximately 1,990 feet upstream of State Highway 145 | None | +302
Mud Creek | Approximately 4,465 feet downstream of Interstate 78 | +265 | +266 | Unincorporated Areas of Lee County, City of Tupelo, Town of Saltillo.
| Approximately 80 feet upstream of County Road 681 | None | +289
Reeds Branch | Approximately 2,410 feet downstream of confluence with Reeds Branch Tributary 1 | None | +269 | Unincorporated Areas of Lee County.
| Approximately 1,565 feet upstream of County Road 900 | None | +302
Sand Creek | At the confluence with Mud Creek | None | +280 | Unincorporated Areas of Lee County, Town of Saltillo.
| At State Highway 363 | None | +307
Sand Creek Tributary 1 | At the confluence of Sand Creek | None | +299 | Unincorporated Areas of Lee County, Town of Saltillo.
| Approximately 2,190 feet upstream of Fellowship Road | None | +326
Sand Creek Tributary 2 | At the confluence of Sand Creek | None | +304 | Town of Saltillo.
| Approximately 6,890 feet upstream of confluence with Sand Creek | None | +343
Town Creek | Approximately 1,575 feet downstream of the confluence with Kings Creek | +256 | +257 | City of Tupelo, Unincorporated Areas of Lee County.
| Approximately 2,500 feet upstream of Mount Vernon Road | None | +279
| Approximately 1,070 feet downstream of confluence of Town Creek Tributary 9 | None | +291
| At Lee/Pontotoc county boundary | None | +328
Town Creek Tributary 1 | Approximately 1,900 feet downstream from railroad | None | +226 | Unincorporated Areas of Lee County, Town of Nettleton.
| Approximately 1,080 feet upstream of railroad | None | +238
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Baldwyn
Maps are available for inspection at Baldwyn City Hall, 202 South Second Street, Baldwyn, MS 38824.
City of Tupelo
Maps are available for inspection at Tupelo Planning Department, Tupelo City Hall, 117 North Broadway, 2nd Floor, MS 38802.
Town of Nettleton
Maps are available for inspection at Nettleton Town Hall, 124 Short Street, Nettleton, MS 38858.
Town of Saltillo
Maps are available for inspection at 205 South Second Street, Saltillo, MS 38866.
Town of Shannon
Maps are available for inspection at Shannon Town Hall, 1426 North Street, Shannon, MS 38868.
Unincorporated Areas of Lee County
Maps are available for inspection at Lee County Courthouse, 201 West Jefferson, Suite A, Tupelo, MS 38801.
Summit County, Ohio, and Incorporated Areas
Brandywine Creek | Approximately 2,700 feet above confluence with Cuyahoga River | None | +649 | Unincorporated Areas of Summit County, City of Macedonia, Village of Boston Heights, Village of Hudson.
| Approximately 100 feet upstream Ashley Drive | None | +1093
Brandywine Creek Tributary | Approximately 500 feet downstream of Prospect Street | +1034 | +1033 | Village of Hudson.
| Approximately 900 feet upstream of Ravenna Street | +1061 | +1070
Brandywine Creek Tributary 5 | At confluence with Brandywine Creek | +966 | +965 | City of Macedonia.
| Approximately 2,200 feet above confluence with Brandywine Creek | None | +969
Brandywine Creek Tributary Overflow | Approximately 450 feet above Boston Mills Road | None | +1025 | Village of Hudson.
| Approximately 100 feet downstream from divergence from Brandywine Creek Tributary | None | +1053
Indian Creek | At confluence with Brandywine Creek | +965 | +959 | Unincorporated Areas of Summit County, City of Macedonia.
| Approximately 3,700 feet upstream of Ledge Road | +1032 | +1031
Indian Creek Tributary 3 | At confluence with Indian Creek | +1011 | +1010 | City of Macedonia.
| Approximately 1,700 feet upstream of Ledge Road | +1019 | +1016
Indian Creek Tributary 4 | Mouth at Indian Creek | +978 | +977 | City of Macedonia.
| Approximately 760 feet upstream of Bedford Road | None | +986
Mud Brook | At mouth at Cuyahoga River | None | +748 | City of Akron, City of Cuyahoga Falls, City of Stow, Village of Hudson.
| Approximately 3,400 feet upstream of Streetsboro Road | None | +999
Mud Brook Tributary 1 | At confluence with Mud Brook | +989 | +985 | City of Stow.
| Approximately 2,480 feet upstream of Hudson Street | None | +988
Mud Brook Tributary 1B | At confluence with Mud Brook Tributary 1 | None | +986 | Village of Silver Lake, City of Stow.
| Approximately 100 feet upstream of Carter Lumber Drive | +994 | +999
Mud Brook Tributary 3 | Approximately 1,300 feet downstream of Allen Road | +993 | +991 | City of Stow.
| Approximately 700 feet upstream of Allen Road | +1003 | +1006
North Fork Yellow Creek | Just downstream of Granger Road | +911 | +913 | Unincorporated Areas of Summit County.
| Approximately 75 feet upstream of Bath Road | None | +951
North Fork Yellow Creek Tributary | Approximately 100 feet above confluence with North Fork Yellow Creek | +924 | +923 | Unincorporated Areas of Summit County.
| Approximately 100 feet upstream of Bath Road | None | +977
Powers Brook | Approximately 100 feet downstream of Railroad | None | +1001 | Village of Hudson, City of Stow.
| Approximately 100 feet upstream of Norton Road | None | +1074
Powers Brook Tributary 2 | At confluence with Powers Brook | +1049 | +1051 | City of Stow.
| Approximately 1,120 feet upstream of Stow Road | None | +1058
Yellow Creek | Approximately 550 feet downstream of Riverview Road | +734 | +735 | Unincorporated Areas of Summit County, City of Akron, City of Cuyahoga Falls.
| Approximately 50 feet upstream of Medina Line Road | None | +1066
Yellow Creek Overflow | Approximately 70 feet above confluence with Yellow Creek | None | +1039 | Unincorporated Areas of Summit County.
| Approximately 1,600 feet above confluence with Yellow Creek | None | +1050
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Akron
Maps are available for inspection at 166 South High Street, Suite 100, Akron, OH 44308.
City of Cuyahoga Falls
Maps are available for inspection at 2310 Second Street, Cuyahoga Falls, OH 44221.
City of Macedonia
Maps are available for inspection at 9691 Valley View Road, Macedonia, OH 44056.
City of Stow
Maps are available for inspection at 3760 Darrow Road, Stow, OH 44224.
Unincorporated Areas of Summit County
Maps are available for inspection at 1030 East Tallmadge Avenue, Akron, OH 44310.
Village of Boston Heights
Maps are available for inspection at 5595 Transportation Boulevard, Suite 100, Hudson, OH 44236.
Village of Hudson
Maps are available for inspection at 27 East Main Street, Hudson, OH 44236.
Village of Silver Lake
Maps are available for inspection at 2961 Kent Road, Silver Lake, OH 44224.

(Catalog of Federal Domestic Assistance No. 97.022, “Flood Insurance.”)

Dated: April 7, 2008.
David I. Maurstad,
Federal Insurance Administrator of the National Flood Insurance Program, Department of Homeland Security, Federal Emergency Management Agency.

[FR Doc. E8-8323 Filed 4-16-08; 8:45 am]

BILLING CODE 9110-12-P